DEPARTMENT OF COMMERCE

International Trade Administration

[A-489-501]

Certain Welded Carbon Steel Pipe and Tube From Turkey: Notice of Final Antidumping Duty Administrative Review

AGENCY: Import Administration, International Trade Administration, U.S. Department of Commerce.

SUMMARY: On June 11, 2010, the Department of Commerce (“the Department”) published the preliminary results of the antidumping duty administrative review of certain welded carbon steel pipe and tube from Turkey. This review covers four producers/exporters. The period of review (“POR”) is May 1, 2008, through April 30, 2009.

Based on our analysis of the comments received, we have made certain changes in the margin calculations. The final results, consequently, differ from the preliminary results. The final weighted-average dumping margins for the reviewed firms are listed below in the section entitled “Final Results of Review.”

DATES: Effective Date: October 19, 2010.

FOR FURTHER INFORMATION CONTACT: Joy Zhang or Christopher Hargett, at (202) 482-1168 or (202) 482-4161, respectively; AD/CVD Operations, Office 3, Import Administration, International Trade Administration, U.S. Department of Commerce, 14th Street and Constitution Avenue, NW., Washington, DC 20230.

SUPPLEMENTARY INFORMATION:

Background

The administrative review covers the following four producers/exporters: The Borusan Group,¹ Toscelik,² Erbosan Erciyas Boru Sanayi ve Ticaret A.S. (“Erbosan”), and the Yucel Group companies.³ On July 28, 2009, due to the significant number of requests received and the Department's resource constraints at the time of initiation of the instant review, the Department informed known interested parties of its intent to limit the number of companies examined in the current review. See Memo to Melissa Skinner, through James Terpstra, from Dennis McClure, “Antidumping Duty Administrative Review of Certain Welded Carbon Steel Pipe and Tube from Turkey: Selection of Respondents for Individual Review,” dated July 28, 2009. In accordance with section 777A(c)(2)(B) of the Tariff Act of 1930, as amended (“the Act”), we selected Borusan and Toscelik as mandatory respondents. On June 11, 2010, the Department published in the Federal Register the preliminary results of the antidumping duty administrative view of certain welded carbon steel pipe and tube from Turkey. See Certain Welded Carbon Steel Pipe and Tube from Turkey: Notice of Preliminary Results of Antidumping Duty Administrative Review, 75 FR 33262, (June 11, 2010) (“Preliminary Results”).

¹ The Borusan Group includes Borusan Mannesmann Boru Sanayi ve Ticaret A.S., Borusan Birlesik Boru Fabrikalari San ve Tic., Borusan Istikbal Ticaret T.A.S., Boruson Holding A.S., Boruson Gemlik Boru Tesisleri A.S., Borusan Ihracat Ithalat ve Dagitim A.S., and Borusan Ithicat ve Dagitim A.S. (collectively “Borusan”)

² Toscelik Profil ve Sac Endustrisi A.S., Toscelik Metal Ticaret A.S., Tosyali Dis Ticaret A.S. (collectively “Toscelik”).

³ Cayirova Boru Sanayi ve Ticaret A.S., Yucel Boru ve Profil Endustrisi A.S., and Yucelboru Ihracat Ithalat ve Pazarlama A.S. (collectively “Yucel Group Companies)”.

We invited parties to comment on our preliminary results. On July 30, 2010, we received case briefs from Borusan and United States Steel Corporation (“U.S. Steel”). On August 5, 2010, and August 6, 2010, we received rebuttal briefs from the same parties, respectively. The Department has conducted this administrative review in accordance with section 751 of the Act.

Period of Review

The POR covered by this review is May 1, 2008, through April 30, 2009.

Scope of the Order

The products covered by this order include circular welded non-alloy steel pipes and tubes, of circular cross-section, not more than 406.4 millimeters (16 inches) in outside diameter, regardless of wall thickness, surface finish (black, galvanized, or painted), or end finish (plain end, beveled end, threaded and coupled). Those pipes and tubes are generally known as standard pipe, though they may also be called structural or mechanical tubing in certain applications. Standard pipes and tubes are intended for the low pressure conveyance of water, steam, natural gas, air, and other liquids and gases in plumbing and heating systems, air conditioner units, automatic sprinkler systems, and other related uses. Standard pipe may also be used for light load-bearing and mechanical applications, such as for fence tubing, and for protection of electrical wiring, such as conduit shells.

The scope is not limited to standard pipe and fence tubing, or those types of mechanical and structural pipe that are used in standard pipe applications. All carbon steel pipes and tubes within the physical description outlined above are included in the scope of this order, except for line pipe, oil country tubular goods, boiler tubing, cold-drawn or cold-rolled mechanical tubing, pipe and tube hollows for redraws, finished scaffolding, and finished rigid conduit.

Imports of these products are currently classifiable under the following Harmonized Tariff Schedule of the United States (“HTSUS”) subheadings: 7306.30.10.00, 7306.30.50.25, 7306.30.50.32, 7306.30.50.40, 7306.30.50.55, 7306.30.50.85, and 7306.30.50.90. Although the HTSUS subheadings are provided for convenience and customs purposes, our written description of the scope of this proceeding is dispositive.

Analysis of Comments Received

Issues raised in the case and rebuttal briefs by parties to this proceeding and to which we have responded are listed in Appendix 1 to this notice and addressed in the Memorandum To: Ronald K. Lorentzen, Deputy Assistant Secretary for Import Administration, From: Susan H. Kuhbach, Acting Deputy Assistant Secretary for Antidumping and Countervailing Duty Operations, Subject: Issues and Decision Memorandum for the Final Results of the Antidumping Duty Administrative Review: Certain Welded Carbon Steel Pipe and Tube from Turkey, dated October 5, 2010 (“Issues and Decision Memorandum”), which is hereby adopted by this notice. Parties can find a complete discussion of the issues raised in this administrative review and the corresponding recommendations in this public memorandum, which is on file in the Central Records Unit (“CRU”), Room 7046 of the main Department building. In addition, a copy of the Issues and Decision Memorandum can be accessed directly on our Web site at http://ia.ita.doc.gov/frn. The paper copy and electronic version of the Issues and Decision Memorandum are identical in content.

Yucel Group Companies

In the Preliminary Results, the Department found that the Yucel Group companies had no shipments of subject merchandise and announced its intent to liquidate any entries of merchandise produced by the Yucel Group companies and exported by other parties at the all-others rate.⁴ We did not receive any comments on our preliminary results with respect to the Yucel Group companies. Thus, there is no information or argument on the record of the current review that warrants reconsidering our preliminary decision to liquidate any existing entries of merchandise produced by the Yucel Group companies and exported by other parties at the all-others rate. Therefore, we will instruct CBP to liquidate any existing entries of merchandise produced by the Yucel Group companies and exported by other parties at the all-others rate.

⁴ See Preliminary Results, 75 FR 33263.

Final Results of Review

As a result of this review, we determine that the following margins exist for the period May 1, 2008, through April 30, 2009:

Manufacturer/exporter | Weighted-Average margin (percent)
Borusan | 5.57
Toscelik | 0.00
Erbosan | 5.57
All Others | 14.74

Disclosure

We will disclose any memorandums used in our analysis to parties to these proceedings within five days of the date of publication of this notice.⁵

⁵ See 19 CFR 351.224(b).

Assessment

The Department shall determine, and CBP shall assess, antidumping duties on all appropriate entries.

Pursuant to 19 CFR 351.212(b)(1), because Borusan reported the entered value for all of its U.S. sales, we have calculated importer-specific ad valorem duty assessment rates based on the ratio of the total amount of antidumping duties calculated for the examined sales to the total entered value of the sales which entered value was reported. To determine whether the duty assessment rates are de minimis, in accordance with the requirement set forth in 19 CFR 351.106(c)(2), we have calculated importer-specific ad valorem ratios based on the entered value.

For the remaining company, Erbosan, which was not selected for individual examination, we will instruct CBP to apply the rate listed above to all entries of subject merchandise produced and/or exported by that firm. It is the Department's practice to calculate such a rate as the weighted average of the cash deposit rates calculated for the companies selected for individual examination, excluding any which are de minimis or determined entirely on adverse facts available. For this review, it is the rate calculated for Borusan; the only above de minimis rate.

Pursuant to 19 CFR 351.106(c)(2), we will instruct CBP to liquidate without regard to antidumping duties any entries for which the assessment rate is de minimis (i.e., less than 0.50 percent). The Department intends to issue assessment instructions to CBP 15 days after the date of publication of these final results of review.

The Department clarified its “automatic assessment” regulation on May 6, 2003.⁶ This clarification will apply to entries of subject merchandise during the POR produced by companies included in these final results of review for which the reviewed companies did not know their merchandise was destined for the United States. In such instances, we will instruct CBP to liquidate unreviewed entries at the country-specific all-others rate established in the less-than-fair-value (“LTFV”) investigation if there is no rate for the intermediate company(ies) involved in the transaction.

⁶ See Antidumping and Countervailing Duty Proceedings: Assessment of Antidumping Duties, 68 FR 23954 (May 6, 2003).

Cash Deposit Requirements

The following antidumping duty deposit rates will be effective upon publication of this notice of final results of the administrative review for all shipments of welded pipe and tube from Turkey entered, or withdrawn from warehouse, for consumption on or after the date of the publication of these final results, as provided by section 751(a)(1) of the Act: (1) For the companies subject to this review, the cash deposit rate will be the rates listed above; (2) for previously reviewed or investigated companies not listed above, the cash deposit rate will continue to be the company-specific rate published for the most recent final results in which that manufacturer or exporter participated; (3) if the exporter is not a firm covered in this review, a prior review, or the original LTFV investigation, but the manufacturer is, the cash deposit rate will be the rate established for the most recent final results for the manufacturer of the merchandise; and, (4) if neither the exporter nor the manufacturer is a firm covered in this or any previous review conducted by the Department, the cash deposit rate will be 14.74 percent, the all-others rate established in the LTFV investigation.⁷ These cash deposit requirements, when imposed, shall remain in effect until further notice.

⁷ See Antidumping Duty Order; Welded Carbon Steel Standard Pipe and Tube Products From Turkey, 51 FR 17784 (May 15, 1986).

Notification to Importers

This notice serves as a final reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Notification to Interested Parties

This notice serves as the only reminder to parties subject to administrative protective orders (“APO”) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing these results of review in accordance with sections 751(a)(1) and 777(i)(1) of the Act.

Dated: October 12, 2010.
Ronald K. Lorentzen,
Deputy Assistant Secretary for Import Administration.

Appendix—Issues in Decision Memorandum

1. Treatment of “Negative Dumping Margins” (Zeroing)

2. Method of Indexing Quarterly Costs

3. Borusan's Duty Drawback

[FR Doc. 2010-26271 Filed 10-18-10; 8:45 am]

BILLING CODE 3510-DS-P